INTERNATIONAL TRADE COMMISSION

[Investigation Nos. 701-TA-417 and 731-TA-953, 957-959, 961, and 962 (Second Review)]

Carbon and Certain Alloy Steel Wire Rod From Brazil, Indonesia, Mexico, Moldova, Trinidad and Tobago, and Ukraine

Determinations

On the basis of the record ¹ developed in the subject five-year reviews, the United States International Trade Commission (“Commission”) determines, pursuant to section 751(c) of the Tariff Act of 1930 (19 U.S.C. 1675(c)), that revocation of the countervailing duty order on carbon and certain alloy steel wire rod (“wire rod”) from Brazil and the antidumping duty orders on wire rod from Brazil, Indonesia, Mexico, Moldova, and Trinidad and Tobago would be likely to lead to continuation or recurrence of material injury to an industry in the United States within a reasonably foreseeable time. The Commission also determines, pursuant to section 751(c) of the Tariff Act of 1930 (19 U.S.C. 1675(c)), that revocation of the antidumping duty order on wire rod from Ukraine would not be likely to lead to continuation or recurrence of material injury to an industry in the United States within a reasonably foreseeable time.²

¹ The record is defined in sec. 207.2(f) of the Commission's Rules of Practice and Procedure (19 CFR 207.2(f)).

² Chairman Irving A. Williamson and Commissioner David S. Johanson dissented with respect to subject imports from Ukraine, finding that revocation of the antidumping duty order on wire rod from Ukraine would be likely to lead to continuation or recurrence of material injury to an industry in the United States within a reasonably foreseeable time. Commissioner David S. Johanson also dissented with respect to subject imports from Mexico, finding that revocation of the antidumping duty order on wire rod from Mexico would not be likely to lead to continuation or recurrence of material injury to an industry in the United States within a reasonably foreseeable time. Commissioner Rhonda K. Schmidtlein did not participate in these reviews.

Background

The Commission instituted these reviews on June 3, 2013 (78 FR 33103) and determined on September 6, 2013 that it would conduct full reviews (78 FR 60316, October 1, 2013). Notice of the scheduling of the Commission's reviews and of a public hearing to be held in connection therewith was given by posting copies of the notice in the Office of the Secretary, U.S. International Trade Commission, Washington, DC, and by publishing the notice in the Federal Register on December 18, 2013 (78 FR 76653). The hearing was held in Washington, DC, on April 22, 2014, and all persons who requested the opportunity were permitted to appear in person or by counsel.

The Commission completed and filed its determinations in these reviews on June 16, 2014. The views of the Commission are contained in USITC Publication 4472 (June 2014), entitled Carbon and Certain Alloy Steel Wire Rod from Brazil, Indonesia, Mexico, Moldova, Trinidad and Tobago, and Ukraine: Investigation Nos. 701-TA-417 and 731-TA-953, 957-959, 961, and 962 (Second Review).

By order of the Commission.
Issued: June 16, 2014.
Lisa R. Barton,
Secretary to the Commission.

[FR Doc. 2014-14422 Filed 6-19-14; 8:45 am]

BILLING CODE 7020-02-P